DEPARTMENT OF AGRICULTURE

Submission for OMB Review; Comment Request

August 15, 2011.

The Department of Agriculture will submit the following information collection requirement(s) to OMB for review and clearance under the Paperwork Reduction Act of 1995, Public Law 104-13 on or after the date of publication of this notice. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; OIRA_Submission@OMB.EOP.GOV or fax (202) 395-5806 and to Departmental Clearance Office, USDA, OCIO, Mail Stop 7602, Washington, DC 20250-7602.

Dates: Comments regarding these information collections are best assured of having their full effect if received by September 19, 2011. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Grain Market News Reports.

OMB Control Number: 0581-0005.

Summary of Collection: The Agricultural Marketing Act of 1946 (7 U.S.C. 1621) Section 203(g), directs and authorizes the collection and dissemination of marketing information including adequate outlook information, on a market area basis, for the purpose of anticipating and meeting consumer requirements aiding in the maintenance of farm income and to bring about a balance between production and utilization. Livestock and Grain News provides a timely exchange of accurate and unbiased information on a current marketing conditions (supply, demand, prices, trends, movement, and other information) affecting trade in livestock, meats, grain, and wool. Administered by the U.S. Department of Agriculture's Agricultural Marketing Service (AMS), this nationwide market news program is conducted in cooperation with approximately 25 state departments of agriculture. The up-to-the-minute reports collected and disseminated by professional market reporters are intended to provide both buyers and sellers with the information necessary for making intelligent, informed marketing decisions, thus putting everyone in the marketing system in an equal bargaining position. AMS will collect information using market new reports.

Need and Use of the Information: AMS will collect information on various aspects of the grain and feed industry in determining available supplies and current pricing. Industry traders use market news information to make marketing decisions on when and where to buy and sell. In addition, the reports are used by other Government agencies to evaluate market conditions and calculate price levels used for the Farmer-owned Reserve Program. The reports must be collected and disseminated by an impartial third party. Since the Government is a large holder of grain, some type of system would have to be established to monitor the collection and reporting data.

Description of Respondents: Business or other for-profit; farms.

Number of Respondents: 160.

Frequency of Responses: Reporting: On occasion; weekly; monthly.

Total Burden Hours: 56.

Agricultural Marketing Service

Title: Recordkeeping Requirements for Certified Applicators of Federally Restricted Use Pesticides (7 CFR part 110).

OMB Control Number: 0581-0164.

Summary of Collection: The Food, Agriculture, Conservation, and Trade (FACT) Act of 1990 (Subtitle H, Sec. 1491) mandates the Department of Agriculture (USDA) in consultation with the Administrator of the Environmental Protection Agency (EPA), “shall require certified applicators of federally restricted use pesticides to maintain records comparable to records maintained by commercial applicators in each state.” In addition, USDA and the Administrator of EPA are required under Section 1491(f) of the FACT Act to survey the records and develop and maintain a data base so USDA and the Administrator of EPA can prepare and publish annual pesticide use reports, copies of which must be transmitted to Congress. Agricultural Marketing Service (AMS) is charged with administering the Federal Pesticide Recordkeeping Program. AMS requires certified private applicators of federally restricted use pesticides to maintain records of all restricted use pesticide applications for a period of two years.

Need and Use of the Information: AMS will collect information using the ST-8, Pesticide Recordkeeping Inspection Form. In order to properly administer the Pesticide Recordkeeping Program, AMS needs to monitor and determine to what extent private applicators are complying with the program's requirements and identify the reasons for non/or partial compliance. AMS has the responsibility to assure records are kept to provide information to be utilized by licensed health care professionals for possible medical treatment. In addition, the statute requires USDA to submit annual reports to Congress pertaining to the use of restricted use pesticides in agricultural production.

Description of Respondents: Farms; State, Local or Tribal Government.

Number of Respondents: 499,440.

Frequency of Responses: Recordkeeping; Reporting: On occasion.

Total Burden Hours: 1,418,058.

Agricultural Marketing Service

Title: Specified Commodities Imported into the United States Exempt from Import Requirements, 7 CFR Part 944, 980, and 999.

OMB Control Number: 0581-0167.

Summary of Collection: Agricultural Marketing Agreement Act of 1937 (AMAA), as amended (7 U.S.C. 601-674) provides that when certain domestically produced commodities are regulated under a Federal marketing order, imports of the commodity must meet the same or comparable requirements. Import regulations apply only during those periods when domestic marketing order regulations are in effect. No person may import products for processing or other exempt purposes unless an executed Importers Exempt Commodity Form (FV-6) accompanies the shipment. The Civil Penalty Stipulation Agreement (FV-7) is a “volunteer” form that provides the Agricultural Marketing Service (AMS) with an additional tool to obtain resolution of certain cases without the cost of going to a hearing.

Need and Use of the Information: AMS utilizes the information to ensure that imported goods destined for exempt outlets are given no less favorable treatment than afforded to domestic goods destined for such exempt outlets. The importers wishing to import commodities will use form FV-6, “Importer's Exempt Commodity”, which requires a minimum amount of information.

Description of Respondents: Business or other for-profit; not-for-profit institutions.

Number of Respondents: 345.

Frequency of Responses: Reporting: On occasion.

Total Burden Hours: 511.

Agricultural Marketing Service

Title: Laboratory Approval Programs.

OMB Control Number: 0581-0251.

Summary of Collection: The Agricultural Marketing Act (AMA) of 1946, as amended, provides analytical testing services that facilitate marketing and allow products to obtain grade designations or meet marketing or quality standards. Pursuant to this authority, AMS develops and maintains laboratory certification verification and approval programs as needed by the agricultural industry, to support domestic and international marketing of U.S. products. To ensure that a laboratory is capable of accurately performing the specified analyses, it must adhere to certain good laboratory practice and show technical proficiency in the required areas.

Need and Use of the Information: Checklist and form have been developed that ask the laboratory for information concerning procedures, the physical facility, employees, and their training. The laboratory must also provide Standard Operating Procedures for the analyses and quality assurance. The laboratory certification and approval programs are voluntary, fee for service, and for admission into one of these programs a laboratory must have a client who requires the specific testing. It is necessary to collect and require the laboratory to attest to the performance elements necessary to determine the credibility of the laboratory. To do less would be a disservice to the agricultural community.

Description of Respondents: Business or other for-profit; farms.

Number of Respondents: 83.

Frequency of Responses: Reporting: On occasion.

Total Burden Hours: 6,010.

Charlene Parker,
Departmental Information Collection Clearance Officer.

[FR Doc. 2011-21145 Filed 8-18-11; 8:45 am]

BILLING CODE 3410-02-P